DEPARTMENT OF JUSTICE

Antitrust Division

Notice Pursuant to the National Cooperative Research and Production Act of 1993—Silicon Integration Initiative, Inc.

Notice is hereby given that, on April 23, 2020, pursuant to Section 6(a) of the National Cooperative Research and Production Act of 1993, 15 U.S.C. 4301 et seq. (“the Act”), Silicon Integration Initiative, Inc. (“Si2”) has filed written notifications simultaneously with the Attorney General and the Federal Trade Commission disclosing changes in its membership. The notifications were filed for the purpose of extending the Act's provisions limiting the recovery of antitrust plaintiffs to actual damages under specified circumstances. Specifically, HW21 Org Limited, San Francisco, CA; Microsoft Corporation, Santa Clara, CA; Mythic, Inc., Austin, TX; Phoelex, Cambridgeshire, UNITED KINGDOM; Scientific Analog, Palo Alto, CA; and Thrace Systems, San Jose, CA have been added as parties to this venture.

Also, Coupling Wave Solutions, Moirans, FRANCE; D2S, Inc., San Jose, CA; DXCorr Design Inc., Sunnyvale, CA; NVM Engines, Sunnyvale, CA; and Life Technologies Corporation, Guilford, CT, have withdrawn as parties to this venture.

Additionally, Mie Fujitsu Semiconductor Limited, Yokohama, JAPAN has changed its name to United Semiconductor Japan Co., Ltd.; Huada Empyrean Software Co. Ltd., San Francisco, CA has changed its name to Empyrean Software; and Toshiba Corporation, Yokohama, JAPAN has changed its name to KIOXIA Corporation.

No other changes have been made in either the membership or planned activity of the group research project. Membership in this group research project remains open, and Si2 intends to file additional written notifications disclosing all changes in membership.

On December 30, 1988, Si2 filed its original notification pursuant to Section 6(a) of the Act. The Department of Justice published a notice in the Federal Register pursuant to Section 6(b) of the Act on March 13, 1989 (54 FR 10456).

The last notification was filed with the Department on March 18, 2019. A notice was published in the Federal Register pursuant to Section 6(b) of the Act on April 12, 2019 (84 FR 14973).

Suzanne Morris,
Chief, Premerger and Division Statistics, Antitrust Division.

[FR Doc. 2020-10730 Filed 5-18-20; 8:45 am]

BILLING CODE P